DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of March 2003.

In order for an affirmative determination to be made and a certification of eligibility to apply for worker adjustment assistance to be issued, each of the group eligibility requirements of section 222 of the Act must be met.

(1) That a significant number or proportion of the workers in the workers' firm, or an appropriate subdivision thereof, have become totally or partially separated, or are threatened to become totally or partially separated; and

(2) That sales or production, or both, of the firm or sub-division have decreased absolutely, and

(3) That increases of imports of articles like or directly competitive with articles produced by the firm or appropriate subdivision have contributed importantly to the separations, or threat thereof, and to the absolute decline in sales or production of such firm or subdivision.

Negative Determinations for Worker Adjustment Assistance

In each of the following cases the investigation revealed that criterion (3) has not been met. A survey of customers indicated that increased imports did not contribute importantly to worker separations at the firm.

None.

In the following case, the investigation revealed that the criteria for eligibility have not been met for the reasons specified.

Increased imports did not contribute importantly to worker separations at the firm.

TA-W-42,201; International Rectifier, Temecula, CA

The investigation revealed that criterion (a)(2)(A) (I.C.) (Increased imports) and (a) (2)(B) (II.B) (No shift in production to a foreign country) have not been met.

TA-W-50,350; Leviton Manufacturing Co., Inc., Hillsbrove Div., Warwick, RI

TA-W-50,994; Fishing Vessel (F/V) Teter Totter Clarks Point, AK

TA-W-50,782; EMCO Flow Systems, Longmont, CO

TA-W-50,722; Bickford Woodworking Products, Inc., Monmouth, ME

TA-W-50,694; Modern Molding Manufacturing, Inc., Pot Huron, MI

TA-W-50,476; Honeywell International, Coon Rapids, MN

TA-W-50,925 Annette Island Packing Co., Metlakatla, AK

TA-W-50,206; Inland Production Co., Inland Resources, Myton, UT

TA-W-51,166; Fishing Vessel (F/V) Double Eagle, Dillingham, AK

TA-W-50,900; Shrimping Vessel (S/V) Night Stalker, Homosassa, FL

TA-W-50,749; Alaska Commercial Fisheries Entry Commission Permit #SO4K61848J, Douglas Island, AK

TA-W-50,844; Fishing Vessel (F/V), Jennifer Lynn, Togiak, AK

TA-W-50,842; Fishing Vessel (F/V) Anna Mae, Port Heiden, AK

TA-W-50,730; PPG Industries, Inc., Automotive Coating Div., Troy, MI

TA-W-50,517; Carl Zeiss IMT Corp., Minneapolis, MN

TA-W-50,459; Suss Microtec, Inc., Waterbury, VT

TA-W-50,441; Fishing Vessel (F/V), Slipstream, Dillingham, AK

TA-W-51,261; Fishing Vessel (F/V) Lonny A., Ekwok, AK

TA-W-51,207; General Electric Co., Industrial Systems, Mebane, NC

TA-W-51,239; Fishing Vessel (F/V) Pamela Dawn, Kodiak, AK

TA-W-51,186; State of Alaska Commercial Fisheries Entry Commission, Permit #64734J, Togiak, AK

TA-W-50,909; International Foam Products, Inc., Carlstadt, NJ

TA-W-50,995; Fishing Vessel (F/V) Kira, South Naknek, AK

The workers firm does not produce an article as required for certification under Section 222 of the Trade Act of 1974.

TA-W-50,772; Symbol Technologies, Inc., Detroit Service Center, Farmington Hills, MI

TA-W-51,048; Kayser-Roth Corp., Creedmoor Facility, Creedmoor, NC

TA-W-51,100 & A, B; HMH Transportation, Inc., Hazlehurst, GA, Forest Park, GA and Los Angeles, CA

TA-W-51,030; Esco Corp., Danville, IL

TA-W-51,012; Convergys Information Management Group, Inc., Cincinnati, OH

TA-W-50,129 & A; IBM Corp., Global Services Div., Piscataway, NJ and Middletown, NJ

TA-W-50,857; Centre State International Trucks, Inc., Mt. Pleasant, IA

TA-W-51,244; Teletech Holdings, Duluth, GA

TA-W-51,082; Center Partners, Yukon, OK

TA-W-51,071; Nova Chemicals, Inc., United States Operating Center, Styrenics Business Div., EPS Business Unit, Moon Township, PA

TA-W-51,037; Jabil Global Services, Inc., Tampa, FL

The investigation revealed that criterion (a)(2)(A) (I.A) (no employment declines) has been met.

TA-W-51,164; Fishing Vessel (F/V) Melody Lynn, Aleknagik, AK

TA-W-50,753; Fishing Vessel (F/V) Rainbow, Manokotak, AK

TA-W-51,168; Fishing Vessel (F/V) Vanessa, Kodiak, AK

TA-W-51,032; Wheeling-Pittsburgh Steel Corp., Allenport, PA

TA-W-50,903; Fishing Vessel (F/V) Samantha Kenny, Homosassa, FL

TA-W-50,863; State of Alaska Commercial Fisheries Entry Commission Permit #SO4T60197A, Anchorage, AK

TA-W-50,697; State of Alaska Commercial Fisheries Entry Commission Permit #SO3T66854Jm Sand Point, AK

TA-W-50,392; Heckett Multiserv, Keppel, PA

TA-W-51,275; State of Alaska Commercial Fisheries Entry Commission Permit #SO4T65905, Dillingham, AK

TA-W-51,162; Fishing Vessel (F/V), J.C., Dillingham, AK

The investigation revealed that criterion (a)(2)(A) (I.B) (sales or production, or both did not decline) and (a)(2)(A) (II.B) (no shift in production to a foreign country) have not been met.

TA-W-50,679; TRS Ceramics, Inc., State College, PA

TA-W-50,959; Harper Brush Works, Fairfield, IA

TA-W-51,185; Fishing Vessel North Runner, Egegik, AK

The investigation revealed that criterion (a)(2)(A) (I.C.) (Increased imports) and (a)(2)(B) (No shift in production to a foreign country) have not been met.

TA-W-50,859; Vishay Intertechnology, Vishay Cera-Mite Div., Oconto Falls, WI

The investigation revealed that criterion (a)(2)(A) (I.C) (increased imports) and (a)(2)(B) (II.C) (has shifted production to a country not under the free trade agreement within US) have not been met.

TA-W-50,217; Universal Instrument Corp., Corporate Operations Div., Binghamton, NY

Affirmative Determinations for Worker Adjustment Assistance

The following certifications have been issued; the date following the company name and location of each determination references the impact date for all workers of such determination.

TA-W-42,180; Hy-Lift, LLC, Muskegon, MI: September 17, 2001.

TA-W-42,360; Precision Twist Drill Co., Rhinelander, WI: September 16, 2001.

The following certifications have been issued. The requirements of (a)(2)(A) (increased imports) of Section 222 have been met.

TA-W-51,126; Kelly Industries, Inc., Eighty Four, PA: March 5, 2002.

TA-W-50,442; Dynamik Tool and Die, Dandridge, TN: December 6, 2001.

TA-W-50,470; Hitachi High Technologies America, Inc., Life Sciences Division, San Jose, CA: December 19, 2001.

TA-W-50,780; Piedmont Carving Co., Inc., Thomasville, NC: January 31, 2002.

TA-W-50,833; Caraustar Industries, Carolina Concerting, Northern Mill Div., Fayetteville, NC: February 1, 2002.

TA-W-50,802; Applied Micro Circuits Corp., San Diego, CA: January 21, 2002.

TA-W-50,850; PTC Alliance Midwest Manufacturing, Chicago Heights, IL: February 5, 2002.

TA-W-51,083; Fernbrook and Co., Palmerton, PA: March 6, 2002.

TA-W-50,520; Omnitronics, LLC, Conneaut, OH: December 29, 2001.

TA-W-51,182; Ball Corp., Metal Food Container Operation, Blytheville, AR: March 14, 2002.

TA-W-51,112; OSRAM Sylvania, General Lighting Div., Maybrook, NY: February 21, 2002.

TA-W-51,031; National Presto Industries, Inc., Eau Claire, WI: February 24, 2002.

TA-W-50,980; International Paper Co., Chemical Cellulose Div., Natchez, MS: February 7, 2002.

TA-W-50,976; Madeleine Manufacturing Co., Inc., Union, SC: February 15, 2002.

TA-W-50,890; Calapooia Valley Mushrooms, Brownsville, OR: February 7, 2002.

TA-W-50,886; Dana Brake Parts, Inc., Litchfield, IL: February 11, 2002.

TA-W-50,832 A; Ionics, Inc., Fabrication Products Div., Bridgeville, PA and Canonsburg, PA: February 5, 2002.

TA-W-50,708; Peace Industries, Ltd, Ace Fastener Div., Rolling Meadows, IL: January 27, 2002.

TA-W-50,610; Warnaco, Inc., Intimate Apparel Div., Thomasville, GA: January 13, 2002.

The following certifications have been issued. The requirements of (a)(2)(B) (shift in production) of Section 222 have been met.

TA-W-50,965; Crescent Cardboard Co., LLC, Lee MA: February 19, 2002.

TA-W-50,367; Autoliv ASP, Inc., Indianapolis, IN: December 12, 2001.

TA-W-50,671; Motorola Computer Group, a wholly-owned subsidiary of Motorola, Inc., Tempe, AZ: January 20, 2002.

TA-W-50,829; Engineered Medical Systems, Inc., including leased workers of Spherion, Indianapolis, IN: February 6, 2002.

TA-W-50,864; Fishing Vessel (F/V) Jenny O. Dawn, Naknek, AK: February 4, 2002.

TA-W-50,888; Go/Dan Industries, Inc., Div. of Transpro, Inc., Buffalo, NY: February 12, 2002.

TA-W-50,798; Overseas Manufacturing Systems of America, Inc., El Paso, TX: January 16, 2002.

TA-W-50,728; Delco Remy America, Inc., Anderson, IN: October 17, 2002.

TA-W-51,237; Fishing Vessel Sea Pride, Everett, WA: March 15, 2002.

TA-W-51,235; Fishing Vessel (F/V) Halowawa, Ketchikan, AK: March 12, 2002.

TA-W-51,225; Compton Corp., Naugatuck Facility, Naugatuck, CT: March 13, 2002.

TA-W-51,155; Buckbee-Mears St. Paul, a Div. of BMC, Inc., St. Paul, MN: March 10, 2002.

TA-W-51,147; Manitowoc Boom Trucks, Inc., d/b/a Manitex, York, PA: March 10, 2002.

TA-W-51,143; Tyco Healthcare Retail Group, a Div. of Tyco Healthcare, including leased workers of Manpower and Adecco, Harmony, PA: March 13, 2002.

TA-W-51,135; Advance USA LLC, New Stanton, PA: March 12, 2002.

TA-W-51,124; Pass and Seymour, Compression Molding Group, a subsidiary of Legrand, including leased workers of The Holland Group, Concord, NC: March 6, 2002.

TA-W-51,122; Emerson Appliance Controls, Frankort, IN: March 5, 2002.

TA-W-51,065; GE Interlogix, North St. Paul, MN: March 4, 2002.

TA-W-50,982; Tarkett, Inc., Sample Department, a subsidiary of Domco Tarket, Inc., including leased workers of Hobart-West and Adecco, Newburgh, NY: February 13, 2002.

TA-W-50,882; Pirelli Power and Cable Systems LLC, Energy Div., Colusa, CA: February 3, 2002.

TA-W-50893; Best Manufacturing Group LLC, Griffin, GA: February 10, 2002.

TA-W-50,873; Scantibodies Laboratory, Inc., Pregnancy Test Kit/PTK Quality Control Department, Santee, CA: January 29, 2002.

TA-W-50,871; Jabil Circuit, Inc., St. Petersburg, FL: February 10, 2002.

TA-W-50,851; Sentex Systems, a Div. of Link Door Controls, Chatsworth, CA: January 30, 2002.

TA-W-50,906; ArvinMeritor, Inc., including leased workers of Randstad Staffing, Gordonsville, TN: March 11, 2002.

TA-W-50,824; Formtech Enterprises, Inc., Quick Plastics Div., including leased workers of Kelly Services, Inc., Jackson, MI: February 6, 2002.

TA-W-50,816; Nevamar Co., High Pressure Laminate Div., Hampton, SC: February 4, 2002.

TA-W-50,785; RMI Titanium Co., Niles, OH: January 17, 2002.

TA-W-50,766; Vishay Sprague Sanford, Inc., Sanford, ME: April 4, 2003.

TA-W-50,293; Mitsubishi Electric Automation, Inc., Vernon Hills, IL: December 9, 2001.

Also, pursuant to Title V of the North American Free Trade Agreement Implementation Act (P.L. 103-182) concerning transitional adjustment assistance hereinafter called (NAFTA-TAA) and in accordance with Section 250(a), Subchaper D, Chapter 2, Title II, of the Trade Act as amended, the Department of Labor presents summaries of determinations regarding eligibility to apply for NAFTA-TAA issued during the month of March 2003.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increased imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-07626; Maidenform, Inc., Jacksonville, FL

NAFTA-TAA-06288; Regal Plastics, LLC, Roseville, MI

The investigation revealed that the criteria for eligibility have not been met for the reasons specified.

The investigation revealed that the workers of the subject firm did not produce an article within the meaning of section 250(a) of the Trade Act, as amended.

None.

Affirmative Determinations NAFTA-TAA

None.

I hereby certify that the aforementioned determinations were issued during the month of March 2003. Copies of these determinations are available for inspection in Room C-5311, U.S. Department of Labor, 200 Constitution Avenue, NW., Washington, DC 20210 during normal business hours or will be mailed to persons who write to the above address.

Dated: March 28, 2003.
Edward A. Tomchick,
Director, Division of Trade Adjustment Assistance.

[FR Doc. 03-8338 Filed 4-4-03; 8:45 am]

BILLING CODE 4510-30-P